DEPARTMENT OF AGRICULTURE

Forest Service

Tongass National Forest; Alaska; Assessment Phase of Revision of the Land Management Plan for the Tongass National Forest

AGENCY: Forest Service, Agriculture (USDA).

ACTION: Notice of intent to initiate the assessment phase of the Land Management Plan revision for the Tongass National Forest.

SUMMARY: The Forest Service, U.S. Department of Agriculture, is initiating the assessment phase of the Land Management Plan revision process for the Tongass National Forest, located in Southeast Alaska. The assessment supports the subsequent planning phase, which will result in a revised land management plan to guide resource management activities on the Tongass National Forest. The assessment will identify and consider relevant and readily accessible material about ecological, social, and economic conditions and trends in the planning area, and will identify best available scientific information including Native or Indigenous knowledge. Trends and conditions identified in the assessment will inform the need to change the existing plan as well as the subsequent revision process.

DATES: The public will be invited to engage and participate in the assessment phase of the revision process beginning in the spring of 2024 through winter of 2025. Engagement opportunities are posted on the Tongass National Forest Plan Revision website: https://www.fs.usda.gov/detail/tongass/landmanagement/planning/?cid=fseprd1105492. A draft assessment, which will reflect input received, is anticipated to be available for review and comment, in January 2025.

ADDRESSES: For questions about Land Management Plan revision or comments on initiating the assessment phase of plan revision, please address mail to: Tongass National Forest Supervisor's Office, Attn: Erin Mathews—Tongass Plan Revision Coordinator, 648 Mission Street, Suite 110, Ketchikan, AK 99901-6591, or via email to SM.FS.TNFRevision@usda.gov. All correspondence, including names and addresses, will be part of the public record. More information on the planning process can also be found on the Tongass Plan Revision website at https://www.fs.usda.gov/detail/tongass/landmanagement/planning/?cid=fseprd1105492.

FOR FURTHER INFORMATION CONTACT: Erin Mathews, Plan Revision Coordinator, at erin.eathews@usda.gov or by phone at 907-419-8347. Individuals who use telecommunication devices for the deaf (TDD) may call the Federal Relay Service (FRS) at 1-800-877-8339, 24 hours a day, every day of the year, including holidays.

Information will be shared through electronic mailing lists, social media, and media outlets. If members of the public are interested in learning more, please visit the website listed above and select the link to subscribe to updates on the Tongass Plan Revision. The public can also sign up to receive regular updates by sending an email to SM.FS.TNFRevision@usda.gov.

SUPPLEMENTARY INFORMATION: The 2012 Planning Rule (36 CFR 219), which implements the National Forest Management Act (NFMA) of 1976, provides that the Forest Service develop, maintain and revise land management plans, often called a Forest Plan, for all national forests and grasslands. Land Management Plans provide a programmatic framework for management of forest resources and are amended as conditions change over time. The Tongass Land Management Plan was first approved in 1979, revised in 1997, and later amended in 2003, 2008, 2016, and 2020. The 2016 Land Management Plan amends the 2008 Tongass Land and Resource Management Plan (2008 Forest Plan), incorporating changes made since 2008.

This notice announces initiates the assessment phase of the plan revision process, during which the Agency will identify and evaluate current information regarding the Tongass National Forest from the public, Tribes, Alaska Native Corporations, other government agencies, and non-governmental parties, 36 CFR 219.5(a)(1), 219.6, 219.19. The Tongass National Forest has initiated consultation with Tribes and Alaska Native Corporations for all phases of the planning process and will consult as part of the assessment phase of revision, 36 CFR 219.4. The Forest Service, Alaska Region, will build on the engagement efforts and the relationships developed as part of the Southeast Alaska Sustainability Strategy to ensure that a broad range of local voices contribute to the assessment and throughout the planning process. Information collected during the formation of the Sustainability Strategy will be utilized in the assessment where appropriate.

The 2012 Planning Rule requires the assessment to include information regarding the status and trends of ecological, social, and economic conditions within the planning area and across the broader landscape. In particular, the Agency must identify and evaluate information relevant to the plan area for the following: (1) Terrestrial ecosystems, aquatic ecosystems, and watersheds; (2) Air, soil, and water resources and quality; (3) System drivers, including dominant ecological processes, disturbance regimes, and stressors, such as natural succession, wildland fire, invasive species, and climate change, and the ability of terrestrial and aquatic ecosystems in the plan area to adapt to change; (4) Baseline assessment of carbon stocks; (5) Threatened, endangered, proposed, and candidate species, and potential species of conservation concern present in the plan area; (6) Social, cultural, and economic conditions; (7) Benefits people obtain from the National Forest System planning area (ecosystem services); (8) Multiple uses and their contributions to local, regional, and national economies; (9) Recreation settings, opportunities and access, and scenic character; (10); Renewable and nonrenewable energy and mineral resources; (11) Infrastructure, such as recreational facilities and transportation and utility corridors; (12) Areas of tribal importance; (13) Cultural and historic resources and uses; (14) Land status and ownership and access patterns; and (15) Existing designated areas located in the plan area including wilderness and wild and scenic rivers and potential need and opportunity for additional designated areas. (36 CFR 219.6.)

During this assessment phase, the Forest Service invites other government agencies, Tribes, Alaska Native Corporations, non-governmental parties, and the public to share information about social, economic, and environmental conditions of the Tongass National Forest and the broader landscape. Existing information about conditions on the Tongass National Forest, including information gathered through public engagement and tribal consultation, will be integrated into a draft resource assessment.

At 16.7 million acres, the Tongass National Forest is integral to social, ecological, economic and cultural values in Southeast Alaska. The Tongass is of immense cultural significance for Alaska Native peoples, and is within the traditional homelands of the Tlingit, Haida and Tsimshian peoples. It plays an important role in economic opportunity and social well-being for people and communities in Southeast Alaska. It also represents the largest intact coastal temperate rainforest on earth and is considered critical for carbon sequestration and carbon storage to help mitigate climate change. During this assessment phase, the Forest Service invites input on these and other distinctive roles and contributions of the Tongass to the local area, region, and nation (36 CFR 219.2(b)).

The Forest Service will review and incorporate public comments and additional information from tribal consultation on the draft assessment and produce a final assessment that will inform the Agency's understanding of the need to change the plan for the Tongass National Forest. The Forest Service may then initiate the planning phase, which will include development of an environmental impact statement, pursuant to the National Environmental Policy Act (NEPA).

Responsible Official: The responsible official for the revision of the land management plan for the Tongass National Forest is Frank Sherman, Forest Supervisor.

Dated: April 22, 2024.
Troy Heithecker,
Associate Deputy Chief, National Forest System.

[FR Doc. 2024-08957 Filed 4-25-24; 8:45 am]

BILLING CODE 3411-15-P